DEPARTMENT OF DEFENSE

Department of the Army; Corps of Engineers

Notice of Availability—Final Environmental Impact Statement for Revised Water Control Manuals for the Alabama-Coosa-Tallapoosa River Basin

AGENCY: Department of the Army, U.S. Army Corps of Engineers, DoD.

ACTION: Notice of availability.

SUMMARY: Notice is hereby given that the U.S. Army Corps of Engineers, Mobile District (USACE), has released a Final Environmental Impact Statement (FEIS) for the update of the Alabama-Coosa-Tallapoosa River Basin (ACT) Water Control Master Manual (Master Manual). USACE will accept comments during a public comment period that began with the Notice of Availability published by the Environmental Protection Agency on November 7, 2014 and will end 30 days after that date.

DATES: Comments on the FEIS are due by December 8, 2014 and should be submitted as indicated in the SUPPLEMENTARY INFORMATION section.

FOR FURTHER INFORMATION CONTACT: Mr. Lewis Sumner at telephone (251) 694-3857.

SUPPLEMENTARY INFORMATION: The Master Manual includes appendices prepared for individual projects in the ACT Basin and is the guide used by USACE to operate a system of five federal reservoir projects in the basin—Allatoona Dam and Lake, Carters Dam and Lake and Carters Reregulation Dam, Robert F. Henry Lock and Dam and R.E. “Bob” Woodruff Lake, Millers Ferry Lock and Dam and William “Bill” Dannelly Lake, and Claiborne Lock and Dam and Lake. Alabama Power Company (APC) regulates four non-federal projects—Weiss Dam and Lake, Logan Martin Dam and Lake, Neely Henry Dam and Lake, and R.L. Harris Dam and Lake—in compliance with the projects' Federal Energy Regulatory Commission (FERC) licenses and in accordance with USACE water control plans for flood risk management regulation and navigation support. The updated ACT Master Manual includes appendices prepared for two of the four APC projects for which USACE has authority for flood risk management and navigation support—Neely Henry and R.L. Harris. Water Control Manuals for the remaining two APC projects—Weiss and Logan Martin—will be addressed later.

USACE has updated the water control plans and manuals for the ACT Basin in order to improve operations for authorized purposes to reflect changed conditions since the manuals were last developed. The purpose and need for the updated Master Manual is to determine how operations in the federal projects in the ACT Basin should be adjusted to meet their authorized purposes, in light of current conditions and applicable law and to implement those operations through updated water control plans and manuals. The updated plans and manuals comply with existing USACE regulations and reflect operations under existing congressional authorizations, taking into account changes in basin hydrology and demands from years of growth and development, new/rehabilitated structural features, legal developments, and environmental issues.

USACE regulations also provide specific policy and guidance for inclusion of drought contingency plans as part of USACE's overall water control management activities in the basin. To assure effectiveness, the drought plan incorporates a comprehensive, basin-wide approach that considers the interrelationship of USACE projects and APC projects and the proposed drought plan was developed in collaboration with APC.

USACE's objectives for the Master Manual update were to develop a water control plan that meets the existing water resources needs of the basin, fulfills its responsibilities in operating for the authorized project purposes, and complies with all pertinent laws. The FEIS presents the results of USACE's analysis of the environmental effects of the Proposed Action Alternative (PAA) that the USACE believes would most effectively accomplish these objectives.

USACE evaluated an array of potential water management alternatives during the Master Manual update process, resulting in the selection of the PAA. One alternative available to USACE would be to continue with current operations. This approach is termed the No Action Alternative (NAA). Neither the PAA nor the NAA would alter existing water supply storage allocations or operations for flood risk management, fish spawning, or fish passage.

The proposed action does not include the building, installing, or upgrading of any facilities. USACE will not modify any authorized project purpose via this action, although the extent to which some can be achieved may be affected. This action is limited to the way reservoir levels are managed and water is released from them.

The Final EIS responds to, and incorporates agency and public comments received on the Draft EIS, which was available for public review from February 2013 through April 2013. Four public meetings were held on March 25th through 28th, 2013, and a cumulative total of 129 persons attended these workshops, either representing various agencies and organizations or as interested individual citizens. Seventy (70) comments on the draft EIS were submitted by agencies (Federal, state, and local), private organizations, and individuals. The USACE responses to substantive agency and public comments are provided in Appendix B of the FEIS.

USACE incorporated pertinent revisions and updates to the EIS WCM based on input received during the public review process. The key revisions and updates to the draft documents included in the final EIS for the WCM update include:

• The baseline condition for analysis of alternatives was revised to reflect actual withdrawals by Cobb County-Marietta Water Authority (CCMWA) and city of Cartersville from Allatoona Lake as well as the City of Chatsworth from Carters Lake. As presented in the draft EIS, withdrawals from the reservoirs by these entities had been limited to the volume of water in the current water supply storage agreements. For purposes of the Hydrologic Engineering Center's River Simulation (HEC-ResSim) model, “actual withdrawals” are represented by actual water use reported throughout the basin in 2006, rather than the volume of water in the current storage agreements. The actual withdrawal amounts in 2006 are the highest levels of net water supply withdrawal reported basin-wide and represent the greatest stress placed on the system to date from withdrawals.

• Based on further review of available data during and following the comment period for the draft EIS, USACE determined that revisions of the navigation “template” would be appropriate. The navigation template provides the technical information upon which flow requirements necessary to maintain navigable channel depths in the Alabama River are based. The HEC-ResSim model for the ACT Basin was updated to incorporate these revisions.

• Provisions for operation of the recently completed Hickory Log Creek reservoir, as permitted in the Section 404 permit for the project (2004), were incorporated into the HEC-ResSim model. The Hickory Log Creek reservoir operation was not considered as part of the baseline condition but was included in the simulation of the WCM update alternatives. The final EIS includes an updated description of Hickory Log Creek reservoir and its relationship to the ACT WCM update.

• The hydrologic period of record for HEC-ResSim model simulation for the ACT WCM update process was extended from 70 years (1939-2008) to 73 years (1939-2011).

• Based on the HEC-ResSim model updates described above, model simulations were re-run for the water management alternatives considered in the draft EIS (No Action, Alternative D, Alternative F, and Alternative G (Proposed Action), and the Environmental Consequences were updated accordingly.

• In order to better understand the sensitivity of the Proposed Action Alternative to the potential implications of climate change and increased future water demands in the ACT Basin, model simulations were conducted to address (1) projected increases in long-range water supply demands in the basin, (2) potential for a long term reduction in rainfall in the basin due to climate change, and (3) potential for increased air temperature due to climate change. Both HEC-ResSim and HEC-5Q were run to compare the Proposed Action to these scenarios. These scenarios, the associated sensitivity analyses, and potential effects are discussed in the Final EIS.

• The FERC license for Coosa River Projects was finalized and issued in June 2013, following the publication and review of the draft EIS for the ACT WCM update. The EIS document was updated accordingly, including discussion of the pertinent effects of the June 2013 FERC license on the ACT WCM update process.

• The EIS was updated to include a description of the most recent activities by non-Federal hydropower interests and FERC related to potential development of non-Federal hydropower facilities at Carters Reregulation Dam and Claiborne Lock and Dam.

• Other minor corrections and updates were incorporated into the final EIS based on public comments and new information.

Document Availability

The FEIS and appendices are available to the public for review in the following formats:

• Online as PDF documents at www.sam.usace.army.mil/Missions/PlanningEnvironmental/ACTMasterWaterControlManualUpdate/ACTDocumentLibrary.aspx.

• As a CD when requested in writing to: Commander, U.S. Army Corps of Engineers, Mobile District, Attn: PD-EI (ACT-DEIS), P.O. Box 2288, Mobile, AL 36628.

Public Review and Comment

USACE recognizes that the decisions made concerning revisions to the water control operations at USACE projects within the ACT Basin will have wide-ranging effects and encourages the public to submit comments on the content of the DEIS. All persons and organizations that have a potential interest in the proposed action, including minority, low-income, disadvantaged, and Native American groups, are urged to participate in this NEPA environmental analysis process by reviewing the FEIS and submitting comments for consideration.

Comments may be submitted via the following methods:

• Online at www.sam.usace.army.mil/Missions/PlanningEnvironmental/ACTMasterWaterControlManualUpdate.

• By emailing act-wcm@usace.army.mil.

• By letter addressed to: Commander, U.S. Army Corps of Engineers, Mobile District, Attn: PD-EI (ACT-DEIS), P.O. Box 2288, Mobile, AL 36628.

Further information regarding the update of the Master Manual, including all available documents, background and historical information, and updates is available online at the Web site given above.

Next Steps

No sooner than 30 days after filing the final EIS with USEPA and publication of the EPA Notice of Availability for the FEIS in the Federal Register, USACE will prepare a Record of Decision (ROD) which documents the final decision on the proposed action in regard to the update of the ACT Basin Master WCM and the individual project WCMs, summarize alternatives that were considered and relevant factors that were balanced in making the decision, and identify means that have been adopted to mitigate for adverse effects. USACE will notify the public of the ROD in a newsletter distribution to the project mailing list, press releases to local newspapers radio and television news, and on the project Web site.

Landon M. Raby,
Major, Deputy District Commander, Mobile District, U.S. Army Corps of Engineers.

[FR Doc. 2014-26639 Filed 11-7-14; 8:45 am]

BILLING CODE 3720-58-P